DEPARTMENT OF DEFENSE

Defense Acquisition University Board of Visitors; Notice of Federal Advisory Committee Meeting

AGENCY: Under Secretary of Defense for Acquisitions and Sustainment, Department of Defense.

ACTION: Notice of Federal Advisory Committee meeting.

SUMMARY: The Department of Defense (DoD) is publishing this notice to announce that the following Federal Advisory Committee meeting of the Defense Acquisition University Board of Visitors will take place.

DATES: Open to the public Wednesday, May 16, 2018 from 9:00 a.m. to 4:00 p.m.

ADDRESSES: DAU Midwest, 3100 Research Blvd., Kettering, OH 45420.

FOR FURTHER INFORMATION CONTACT: Christen Goulding, (703) 805-5412 (Voice), (703) 805-5909 (Facsimile), christen.goulding@dau.mil (Email). Mailing address is Protocol Director, DAU, 9820 Belvoir Rd, Fort Belvoir, VA 22060. Website: https://www.dau.mil/about/p/Board-of-Visitors. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The board will meet to discuss on-going items of interest to the Under Secretary of Defense for Acquisition and Sustainment and of consequence to the Defense Acquisition Workforce. This is the board's first visit to the DAU Midwest campus in Kettering, OH.

Agenda: 9:00 a.m.-10:00 a.m. Executive Session 10:00 a.m.-12:00 p.m. DAU Update 12:00 p.m.-1:00 p.m. Lunch 1:00 p.m.-2:15 p.m. Midwest Spotlight 2:15 p.m.-3:30 p.m. Upcoming Initiatives 3:30 p.m.-4:00 p.m. Summary Discussion.

Meeting Accessibility: Pursuant to 5 U.S.C. 552b and 41 CFR 102-3.140 through 102-3.165, and the availability of space, this meeting is open to the public. However, because of space limitations, allocation of seating will be made on a first-come, first served basis. Persons desiring to attend the meeting should call Ms. Caren Hergenroeder at 703-805-5134.

Written Statements: Pursuant to 41 CFR 102-3.140, and section 10(a)(3) of the Federal Advisory Committee Act of 1972, the public or interested organizations may submit written statements to the Defense Acquisition University Board of Visitors about its mission and functions. Written statements may be submitted at any time or in response to the stated agenda of a planned meeting of the Defense Acquisition University Board of Visitors. All written statements shall be submitted to the Designated Federal Officer for the Defense Acquisition University Board of Visitors, and this individual will ensure that the written statements are provided to the membership for their consideration. Statements being submitted in response to the agenda mentioned in this notice must be received by the Designated Federal Officer at least five calendar days prior to the meeting which is the subject of this notice. Written statements received after this date may not be provided to or considered by the Defense Acquisition University Board of Visitors until its next meeting. Committee's Designated Federal Officer or Point of Contact: Ms. Christen Goulding, 703-805-5412, christen.goulding@dau.mil.

Dated: April 2, 2018.
Shelly E. Finke,
Alternate OSD Federal Register Liaison Officer, Department of Defense.

[FR Doc. 2018-06983 Filed 4-4-18; 8:45 am]

BILLING CODE 5001-06-P